DEPARTMENT OF AGRICULTURE

Office of Partnerships and Public Engagement

Advisory Committee on Minority Farmers

AGENCY: Office of Partnerships and Public Engagement (OPPE), USDA.

ACTION: Notice of solicitation for members.

SUMMARY: The Department of Agriculture's (USDA) Office of Partnerships and Public Engagement (OPPE) is seeking nominations for individuals to serve on the Advisory Committee on Minority Farmers (“Advisory Committee”). The Advisory Committee consists of 15 members who are expected to serve a 2-year term and may be reappointed for an additional two terms. Advisory Committee members will represent historically underserved farmers and farming communities and should also reflect the diversity of agriculture in geography, size, scale, type of production. The membership shall include: six (6) or more farmers or ranchers; two (2) or more individuals from minority serving institutions of higher education; two (2) or more individuals from community-based nonprofit organizations; and two (2) or more individuals with civil rights and equity expertise.

DATES: All nomination packages received by April 24, 2023 will be considered.

ADDRESSES: Nominations may be submitted electronically to the Advisory Committee's dedicated email inbox at acmf@usda.gov. Nominations may also be sent via first-class mail to: Advisory Committee on Minority Farmers, Office of Partnerships and Public Engagement, 1400 Independence Avenue SW, Mail Stop 0601, Room 524-A, Washington, DC 20250. All nominations received prior to the deadline under DATES (above) will be considered.

FOR FURTHER INFORMATION CONTACT: Ms. R. Jeanese Cabrera, Designated Federal Officer, Office of Partnerships and Public Engagement, 1400 Independence Avenue SW, Mail Stop 0601, Room 524-A, Washington, DC 20250; Phone: (202) 720-6350; Email: acmf@usda.gov.

SUPPLEMENTARY INFORMATION:

Member Nominations. Any interested person or organization may nominate individuals for membership. Interested candidates may nominate themselves. Nomination packages will require a cover letter to the Secretary of Agriculture and the nominee's resume which should be limited to five one-sided pages. For resumes received that are more than five one-sided pages in length, only the first five pages will be reviewed. A completed and signed USDA Advisory Committee Membership Background Information form (AD-755) is also required. A fillable form AD-755 may be accessed here: https://www.usda.gov/sites/default/files/documents/ad-755.pdf. Endorsements, letters of recommendations, nominee's writings or published papers related to reducing barriers to accessing public programs and services, addressing historic discrimination and disparities, or other topics reflecting a nominee's experience and perspectives, are optional.

Nomination for membership is open to the public within the United States and its territories (Puerto Rico and the U.S. Virgin Islands, Guam, American Samoa, and the Commonwealth of the Northern Marianna Islands). Final selection of Advisory Committee members is made by the Secretary.

The Committee was established pursuant to section 14008 of the Food Conservation and Energy Act of 2008, Public Law 110-246, 122 Stat. 1651, 2008 (7 U.S.C. 2279), to ensure that socially disadvantaged farmers have equal access to USDA programs. The Secretary selects a diverse group of members representing a broad spectrum of persons to recommend solutions to the challenges of minority farmers and ranchers.

The Advisory Committee will meet no less than once annually to advise the Secretary of Agriculture on: (1) implementation of the Outreach and Assistance for Socially Disadvantaged and Veteran Farmers and Ranchers Program (also known as the 2501 Program) under section 2501 of the Food, Agriculture, Conservation, and Trade Act of 1990 (7 U.S.C. 2279); (2) methods that maximize the participation of minority farmers and ranchers in U.S. Department of Agriculture programs; (3) civil rights activities within the Department, as such activities relate to participants in such programs. Advisory Committee public meetings may be held in hybrid style giving participants the choice to attend in person or virtually.

Equal opportunity practices in accordance with USDA's policies will be followed in all appointments to the Committee. To ensure that the recommendations of the Committee have taken in account the needs of the diverse groups served by USDA, membership shall include to the extent possible, individuals with demonstrated ability to represent minorities, women, and persons with disabilities. The USDA prohibits discrimination in all of its programs and activities on the basis of race, color, national origin, religion, sex, gender identity (including gender expression), sexual orientation, disability, age, marital status, family/parental status, political beliefs, income derived from a public assistance program, political beliefs, or reprisal or retaliation for prior civil rights activity in any program or activity conducted or funded by USDA (not all bases apply to all programs). This Advisory Committee is statutorily mandated, and its members may be designated as Representatives or Special Government Employees (SGEs). SGEs are appointed for their personal knowledge, academic scholarship, background, and expertise in specific subject matter areas as may be required during their terms.

Additional guidance on submitting nominations and a fillable AD-755 (pdf) background disclosure form can be found on the Advisory Committee on Minority Farmers' website at https://www.usda.gov/partnerships/advisory-committee-on-minority-farmers.

Dated: March 20, 2023.
Cikena Reid,
USDA Committee Management Officer.

[FR Doc. 2023-06053 Filed 3-23-23; 8:45 am]

BILLING CODE 3412-88-P